DEPARTMENT OF HEALTH AND HUMAN SERVICES

National Institutes of Health

National Eye Institute; Amended Notice of Meeting

Notice is hereby given of a change in the meeting of the National Advisory Eye Council, June 14, 2018, 08:30 a.m. to June 14, 2018, 05:00 p.m., NIH, National Eye Institute, 5635 Fishers Lane, Terrace Level Conference Rooms, Rockville, MD 20852 which was published in the Federal Register on May 04, 2018, 83 FR 19791.

This meeting is being amended to change the Open and Close times. The Closed portion is now from 8:30 a.m. to 10:30 a.m. The Open portion is now from 10:45 a.m. to 3:00 p.m. The meeting is partially Closed to the public.

Dated: May 21, 2018.
Natasha M. Copeland,
Program Analyst, Office of Federal Advisory Committee Policy.

[FR Doc. 2018-11211 Filed 5-24-18; 8:45 am]

BILLING CODE 4140-01-P